DEPARTMENT OF VETERANS AFFAIRS

National Research Advisory Council; Notice of Meeting

The Department of Veterans Affairs (VA) gives notice under Public Law 92-463 (Federal Advisory Committee Act) that the National Research Advisory Council will meet at the Hyatt Dulles, 2300 Dulles Corner Boulevard, Herndon, VA 20171, on Thursday, September 26, 2002, from 8:30 a.m. to 4 p.m. The meeting is open to the public. The purpose of the Council is to provide external advice and review for VA's research mission.

The meeting will begin with opening remarks and an overview by the Council Chairman. The Council will receive informational briefings on the VA Cooperative Studies Program; the Cooperative Studies Program DNA Bank; the VA Research, Education and Clinical Centers; and the VA research portfolio.

Any member of the public wishing to attend the meeting or wishing further information should contact Ms. Karen Scott, Department of Veterans Affairs, Office of Research and Development (12C2), 801 I Street, NW., Washington, DC, at (202) 565-8381.

Dated: August 30, 2002.
By Direction of the Secretary.
Nora E. Egan,
Committee Management Officer.

[FR Doc. 02-23064 Filed 9-10-02; 8:45 am]

BILLING CODE 8320-01-M